SECURITIES AND EXCHANGE COMMISSION

[OMB Control No. 3235-0771]

Agency Information Collection Activities; Proposed Collection; Comment Request; Extension: Rule 3a71-3(d)

Upon Written Request, Copies Available From: Securities and Exchange Commission, Office of FOIA Services, 100 F Street NE, Washington, DC 20549-2736

Notice is hereby given that, pursuant to the Paperwork Reduction Act of 1995 (44 U.S.C. 3501 et seq.), the Securities and Exchange Commission (SEC or “Commission”) is soliciting comments on the proposed collection of information.

Rule 3a71-3 under the Exchange Act provides in part that, for purposes of determining whether they can avail themselves of the de minimis exception to the “security-based swap dealer” definition, non-U.S. persons must count certain dealing transactions with non-U.S. counterparties that have been “arranged, negotiated, or executed” by personnel in the United States. Rule 3a71-3(d) provides an exception from that “arranged, negotiated, or executed” counting requirement. The information collection is required to obtain or retain a benefit and the information is used by the Commission to monitor compliance with the exception to provisions of Exchange Act Rule 3a71-3 that otherwise would require non-U.S. persons to count—against the thresholds associated with the de minimis exception to the “security-based swap dealer” definition—security-based swap dealing transactions with non-U.S. counterparties when U.S. personnel arrange, negotiate, or execute those transactions.

The Commission continues to estimate that up to 24 entities may seek to rely on the exception to the de minimis counting requirement of Rule 3a71-3. In connection with the conditions to the exception, each of those up to 24 entities would make use of an affiliated registered security-based swap dealer or registered broker. In general, the registered entity would be required to comply with the collections of information. Applications for “listed jurisdiction” status may be submitted by the up to 24 relying entities, but the staff believes that the greater portion of such applications will be submitted by foreign financial authorities.

The Commission continues to estimate that the aggregate yearly reporting burden for Rule 3a71-3(d), for all respondents, is approximately 235,242.44 hours per year. In addition, to account for inflation, the Commission estimates that the aggregate annual cost for all of Rule 3a71-3(d) for all respondents is approximately $1,359,778.96 per year. A detailed break-down of the burdens applicable to each type of entity is provided in the supporting statement.

An agency may not conduct or sponsor, and a person is not required to respond to, a collection of information unless it displays a currently valid OMB Control Number.

Written comments are invited on: (a) whether this proposed collection of information is necessary for the proper performance of the functions of the SEC, including whether the information will have practical utility; (b) the accuracy of the SEC's estimate of the burden imposed by the proposed collection of information, including the validity of the methodology and the assumptions used; (c) ways to enhance the quality, utility, and clarity of the information to be collected; and (d) ways to minimize the burden of the collection of information on respondents, including through the use of automated, electronic collection techniques or other forms of information technology.

Please direct your written comments on this 60-Day Collection Notice to Austin Gerig, Director/Chief Data Officer, Securities and Exchange Commission, c/o Tanya Ruttenberg via email to PaperworkReductionAct@sec.gov by February 2, 2026. There will be a second opportunity to comment on this SEC request following the Federal Register publishing a 30-Day Submission Notice.

Dated: November 28, 2025.
Stephanie Fouse,
Assistant Secretary.

[FR Doc. 2025-21769 Filed 12-1-25; 8:45 am]

BILLING CODE 8011-01-P